DEPARTMENT OF DEFENSE

Defense Acquisition Regulations System

48 CFR Parts 205, 208, 212, 213, 214, 215, 216, and 252

RIN 0750-AH11

Defense Federal Acquisition Regulation Supplement; Only One Offer (DFARS Case 2011-D013)

AGENCY: Defense Acquisition Regulations System, Department of Defense (DoD).

ACTION: Proposed rule; reopening of comment period.

SUMMARY: DoD is proposing to amend the Defense FAR Supplement (DFARS) to address acquisitions using competitive procedures in which only one offer is received. With some exceptions, the contracting officer must resolicit for an additional period of at least 30 days, if the solicitation allowed fewer than 30 days for receipt of proposals and only one offer is received. If a period of at least 30 days was allowed for receipt of proposals, the contracting officer must determine prices to be fair and reasonable through price or cost analysis or enter negotiations with the offeror.

DATES: The comment period for the proposed rule that published on July 25, 2011, at 76 FR 44293 is reopened. Interested parties should submit written comments to the address shown below on or before October 7, 2011, to be considered in the formation of the final rule.

ADDRESSES: You may submit comments, identified by DFARS Case 2011-D013, using any of the following methods:

• Regulations.gov: http://www.regulations.gov.

Submit comments via the Federal eRulemaking portal by inserting “DFARS Case 2011-D013” under the heading “Enter keyword or ID” and selecting “Search.” Select the link “Submit a Comment” that corresponds with “DFARS Case 2011-D013.” Follow the instructions provided at the “Submit a Comment” screen. Please include your name, company name (if any), and “DFARS Case 2011-D013” on your attached document.

• E-mail: dfars@osd.mil. Include DFARS Case 2011-D013 in the subject line of the message.

• Fax: 703-602-0350.

• Mail: Defense Acquisition Regulations System, Attn: Ms. Amy Williams, OUSD (AT&L) DPAP (DARS), Room 3B855, 3060 Defense Pentagon, Washington, DC 20301-3060.

Comments received generally will be posted without change to http://www.regulations.gov, including any personal and/or business confidential information provided. To confirm receipt of your comment(s), please check http://www.regulations.gov approximately two to three days after submission to verify posting (except allow 30 days for posting of comments submitted by mail).

FOR FURTHER INFORMATION CONTACT: Ms. Amy Williams, 703-602-0328.

SUPPLEMENTARY INFORMATION:

I. Background

DoD published a proposed rule in the Federal Register on July 25, 2011, at 76 FR 44293, with a request for comments on or before September 23, 2011. The comment period is being reopened through October 7, 2011, to provide an additional time for interested parties to review the proposed DFARS changes. Therefore, accordingly, the comment period for the proposed rule that published on July 25, 2011, at 76 FR 44293 is reopened.

Ynette R. Shelkin,
Editor, Defense Acquisition Regulations System.

[FR Doc. 2011-24783 Filed 9-26-11; 8:45 am]

BILLING CODE 5001-06-P